DEPARTMENT OF COMMERCE

Economics and Statistics Administration

Request for Nominations of Member Organizations To Serve on the Decennial Census Advisory Committee

AGENCY: Economics and Statistics Administration, Department of Commerce.

ACTION: Notice of request for nominations.

SUMMARY: Pursuant to the Federal Advisory Committee Act (Title 5, United States Code (U.S.C.), Appendix 2, Section10(a)(b)), the Bureau of the Census (Census Bureau) invites and requests nominations of organizations for appointment by the Secretary of Commerce to the Decennial Census Advisory Committee. Nominations received in response to this notice will be considered in addition to nominations already received. The SUPPLEMENTARY INFORMATION section for this notice provides information about the objectives and duties of the Advisory Committee and membership criteria.

DATES: Please submit nominations on or before June 23, 2003.

ADDRESSES: Please submit nominations to Jeri Green, Chief, Census Advisory Committee Office, Bureau of the Census, Room 3631, Federal Building 3, Washington, DC 20233, telephone 301-763-6590. Nominations also may be submitted via fax (301-457-2642) or e-mail to jeri.green@census.gov.

FOR FURTHER INFORMATION CONTACT: Jeri Green, Chief, Census Advisory Committee Office, at the above address or via e-mail.

SUPPLEMENTARY INFORMATION: The Decennial Census Advisory Committee was established in accordance with the Federal Advisory Committee Act (Title 5, U.S.C., Appendix 2) in 1991. The following provides information about the Committee, membership, and nomination process:

Objectives and Duties

1. The Committee considers the goals of the decennial census and users' needs for information provided by the census. It provides the Census Bureau a perspective from the external data user community about how research and design plans for the 2010 decennial census (including the American Community Survey) can be effectively and efficiently implemented. The Committee presents an opportunity for an open, balanced discussion that informs and welcomes public comment on all aspects of the decennial census.

2. The Committee functions solely as an advisory body under the Federal Advisory Committee Act and reports to the Secretary of Commerce through the Under Secretary for Economic Affairs.

Membership

1. The Secretary of Commerce appoints the member organizations and designates the Chair and Vice-Chair of the Committee. Member organizations, the Chair, and Vice-Chair serve at the pleasure of the Secretary.

2. The Committee consists of a Chair, Vice-Chair, and a designated representative from each member organization. It is composed of up to forty (40) member organizations. Representatives include heads of member organizations with a substantial interest in the census. The Committee is representative of private sector users; minority groups; professional associations; state, local, and tribal governments; and other organizations. In addition, sixteen (16) ex-officio members serve in a nonvoting capacity. Ex-officio members are representatives of the Postmaster General, the Chairperson and Ranking Member of the Census Oversight and Appropriations Committees and Subcommittees, and a representative from the Census Advisory Committees on Race and Ethnic Populations.

3. Committee members are selected on a clear, standardized basis, in accordance with applicable Department of Commerce guidelines. The Committee's representation reflects a balanced viewpoint and perspective, considering such factors as geography, minority representation, business, academia, and the public-at-large. The size and the scope of the member organization with respect to diverse community representation also are considered.

4. Committee membership has relevant background/experience to significantly assist and/or contribute to the overall functions, issues, and tasks associated with the Committee. The membership should bring diverse perspectives and be able to provide advice on policy and technical issues affecting the goals of ongoing census programs, surveys, and initiatives.

5. The Committee has the fewest number of members necessary to accomplish the objectives of the Charter. Committee membership will not duplicate other organizations or communities already represented on the Committee.

6. Committee membership will encompass a distinct national constituency that ensures relevant, two-way feedback and input reflective of a given community group or constituency.

7. Committee members are appointed by the Secretary of Commerce and serve at the discretion of the Secretary.

Miscellaneous

1. Members of the Committee shall serve without compensation, but the Census Bureau will, upon request, reimburse travel expenses, as authorized by 5 U.S.C. 5701, et. seq., dealing with travel and subsistence expenses.

2. The Committee shall meet from one to two times per year. Meetings are one to two days in duration.

3. Committee meetings are open to the public.

Nomination Information

1. The Department of Commerce is seeking nominations to increase the diversity of the membership of the Decennial Census Advisory Committee to include an organization that is knowledgeable about the issues surrounding Americans overseas and would provide advice to the Census Bureau on conducting an overseas enumeration of Americans living abroad. More specifically, such an organization may either (a) represent Americans living overseas, (b) send Americans to live overseas, (c) serve as a support network for Americans overseas, or incorporate all of these characteristics in its mission or scope.

2. Nominations of organizations may come from individuals or organizations. A summary of the organization's qualifications and the experience that qualifies the organization for membership should be included in the nomination letter. Nominated organizations should be able to actively participate in the tasks of the Committee. Besides meeting attendance and participation, active participation may include review of materials, and participation in conference calls, working groups, and special committee activities that may be planned in conjunction with Committee members.

3. The Department of Commerce is committed to equal opportunity in the workplace and seeks diverse Committee membership.

Dated: April 4, 2003.
Kathleen B. Cooper,
Under Secretary for Economic Affairs, Economics and Statistics Administration.

[FR Doc. 03-13029 Filed 5-22-03; 8:45 am]

BILLING CODE 3510-07-P